DEPARTMENT OF TRANSPORTATION

Federal Aviation Administration

Notice of Intent To Rule on Change in Use of Aeronautical Property at Sumner County Regional Airport, Gallatin, Tennessee

AGENCY: Federal Aviation Administration (FAA), DOT.

ACTION: Request for public comment.

SUMMARY: The Federal Aviation Administration (FAA) is requesting public comment on a request by the Sumner County Regional Airport Authority of Gallatin, Tennessee, owner of the Sumner County Regional Airport, to change a portion of airport property from aeronautical to non-aeronautical use at the Sumner County Regional Airport. The request consists of approximately 14.29 acres to the City of Gallatin, Tennessee for construction of Airport Road. This action is taken under the provisions of Section 125 of the Wendell H. Ford Aviation Investment Reform Act for the 21st Century (AIR 21).

DATES: Comments must be received on or before July 31, 2015.

ADDRESSES: Documents are available for review at the Sumner County Regional Airport, 1475 Airport Road, Gallatin, TN 37066; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. Harold M. Van Leeuwen, Jr., Airport Manager, Sumner County Regional Airport Authority, 1475 Airport Road, Gallatin, TN 37066.

FOR FURTHER INFORMATION CONTACT: Mr. Stephen Wilson, Community Planner, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for non-aeronautical purposes at Sumner County Regional Airport, Gallatin, TN 37066 under the provisions of AIR 21 (49 U.S.C. 47107(h)(2)).

On June 25, 2015, the FAA determined that the request to release property for non-aeronautical purposes at Sumner County Regional Airport meets the procedural requirements of the agency. The FAA may approve the request, in whole or in part, no later than July 31, 2015.

The following is a brief overview of the request:

The Sumner County Regional Airport Authority is proposing the release of approximately 14.29 acres to the City of Gallatin, Tennessee for construction of Airport Road. This property is located along the existing airport western property line extending approximately 5,800 feet along Airport Road.

Any person may inspect, by appointment, the request in person at the FAA office listed above under FOR FURTHER INFORMATION CONTACT.

Issued in Memphis, TN, on June 25, 2015.
Phillip J. Braden,
Manager, Memphis Airports District Office, Southern Region.

[FR Doc. 2015-16219 Filed 6-30-15; 8:45 am]

BILLING CODE 4910-13-P